DEPARTMENT OF DEFENSE

Department of the Army; Corps of Engineers

Availability of a Final Integrated Feasibility Report and Environmental Impact Statement for the Mid-Chesapeake Bay Island Ecosystem Restoration Project in Dorchester County, on Maryland's Eastern Shore

AGENCY: Department of the Army, U.S. Army Corps of Engineers, DOD.

ACTION: Notice of availability.

SUMMARY: In accordance with the requirements of the National Environmental Policy Act (NEPA), the U.S. Army Corps of Engineers (USACE), Baltimore District has prepared a Final Integrated Feasibility Report and Environmental Impact Statement (EIS) for the Mid-Chesapeake Bay Island Ecosystem Restoration Project in Dorchester County, on Maryland's Eastern Shore. Approximately 90 to 95 million cubic yards of material, primarily dredged during maintenance of the Chesapeake Bay approach channels to Baltimore Harbor, would be placed behind dikes at James Island. Material placed at Barren Island would be from authorized maintenance dredging of Federal navigation channels in the Honga River. After placement, the material would be shaped and planted to provide 2,144 acres of island habitat at James and Barren Islands as well as protect existing island ecosystem habitat, including critical submerged aquatic vegetation. A Record of Decision may be signed no earlier than 30 days after the EPA Notice of Availability for the Final document.

FOR FURTHER INFORMATION CONTACT: U.S. Army Corps of Engineers, Baltimore District, Attn: Dr. Angie Sowers at CENAB-PL-P, P.O. Box 1715, Baltimore, MD 21203-1715, electronically at Angela.Sowers@usace.army.mil or by telephone at (410) 962-7440 or (800) 295-1610.

SUPPLEMENTARY INFORMATION: The Mid-Chesapeake Bay Ecosystem Restoration was one of three actions specifically recommended by the USACE-Baltimore District's, Dredged Material Management Plan (DMMP) and Final Tiered Environmental Impact Statement (December 2005). The USACE is making the Final Mid-Chesapeake Bay Island Ecosystem Restoration Integrated Feasibility Report and EIS known through a Notice of Availability published in the Federal Register. The recommendations of the draft Mid-Chesapeake Bay report and EIS are:

• Construction of a 2,072-acre fill area at James Island, consisting of approximately 55 percent tidal wetland habitat and 45 percent upland island habitat;

• Construction and backfilling of sills at Barren Island to protect both the current acreage of the island and the adjacent submerged aquatic vegetation (SAV)/shallow water habitat, providing approximately 72 acres of wetland habitat on the northern and western portions of the island; and

• If deemed necessary to protect the SAV, construction at Barren Island of a maximum of 8,200 feet of breakwater extending South from the southern tip of the existing island at a maximum height of plus 6 feet MLLW. The Draft and Final Integrated Feasibility reports and EISs have been prepared in accordance with (1) NEPA of 1969, as amended (42 U.S.C. 4321 et seq.), (2) regulations of the Council on Environmental Quality for implementing the procedural provisions of NEPA (40 CFR parts 1500-1508), and (3) USACE regulations implementing NEPA (ER-200-2-2).

• James and Barren Islands have been identified by the U.S. Fish and Wildlife Service, and other natural resource management agencies as a valuable nesting and nursery area for many species of wildlife, including bald eagles, diamondback terrapins, and potentially horseshoe crabs. The project would restore James Island and protect Barren Island from further erosion. The reports and EISs document the NEPA compliance and information specific to the actions for the proposed Mid-Chesapeake Bay project.

You may view the EIS and related information on the USACE Web page at http://www.nab.usace.army.mil/publications/non-reg_pub.htm. USACE has distributed copies of the Final Integrated Feasibility Report and EIS to appropriate members of Congress, State and local government officials, Federal agencies, and other interested parties. Copies are also available for public review at the following locations:

Copies are available for public review at the following public reading rooms:

(1) Corbin Memorial Library, 4 East Main Street, Crisfield, MD 21817.

(2) Dorchester County Public Library, 303 Gay Street, Cambridge, MD 21613.

(3) Kent County Public Library, 408 High Street, Chestertown, MD 21620.

(4) Maryland State Law Library, Court of Appeals Building, 361 Rowe Boulevard, Annapolis, MD 21401.

(5) Queen Anne's County Public Library, Stevensville Branch, 200 Library Circle, Stevensville, MD 21666.

(6) Somerset County Library, 11767 Beechwood Street, Princess Anne, MD 21853.

(7) Talbot County Public Library, Easton Branch, 100 West Dover Street, Easton, MD 21601.

(8) Wicomico County Free Library, 122 S. Division Street, Salisbury, MD 21801.

A Notice of Intent (NOI) to prepare a draft EIS was published by the U.S. Environmental Protection Agency (EPA) in the Federal Register on January 17, 2003 (68 FR 2532). USACE filed the Draft document with EPA on September 1, 2006 for the publication of a Notice of Availability in the September 8, 2006 Federal Register. Two public meetings were held on the Draft EIS and Report.

Amy M. Guise,
Chief, Civil Project Development Branch.

[FR Doc. E8-22764 Filed 9-26-08; 8:45 am]

BILLING CODE 3710-41-P